ENVIRONMENTAL PROTECTION AGENCY

[EPA-R09-OAR-2008-0378; FRL-8566-4]

Adequacy Status of Motor Vehicle Budgets in Submitted South Coast 8-Hour Ozone and PM2.5 Attainment and Reasonable Further Progress Plans for Transportation Conformity Purposes; California

AGENCY: Environmental Protection Agency (EPA).

ACTION: Notice of adequacy and inadequacy.

SUMMARY: In this notice, EPA is notifying the public that the Agency has found that the “baseline” reasonable further progress motor vehicle emissions budgets for 8-hour ozone and PM2.5 in the 2007 South Coast State Implementation Plan (2007 South Coast SIP), as amended on April 30, 2008, are adequate for transportation conformity purposes. In this notice, EPA is also notifying the public that the Agency has found that the “SIP-based” motor vehicle emissions budgets for 8-hour ozone and PM2.5 in the amended 2007 South Coast SIP are inadequate for transportation conformity purposes. The 2007 South Coast SIP was submitted to EPA on November 28, 2007 by the California Air Resources Board (CARB) as a revision to the California SIP, and includes reasonable further progress and attainment demonstrations for the 8-hour ozone and PM2.5 national ambient air quality standards. On February 1, 2008, CARB submitted supplemental technical information related to reasonable further progress for the 8-hour ozone NAAQS. The 2007 South Coast SIP was amended by a submittal dated April 30, 2008 that replaces the original motor vehicle emissions budgets for 8-hour ozone and PM2.5 and distinguishes between “baseline” budgets and “SIP-based” budgets. As a result of our findings, the Southern California Association of Governments and the U.S. Department of Transportation must use the South Coast 8-hour ozone and PM2.5 “baseline” motor vehicle emissions budgets, and cannot use the “SIP-based” budgets, in the amended 2007 South Coast SIP for future conformity determinations.

DATES: This finding is effective May 30, 2008.

FOR FURTHER INFORMATION CONTACT: Rebecca Rosen, U.S. EPA, Region IX, Air Division AIR-2, 75 Hawthorne Street, San Francisco, CA 94105-3901; (415) 947-4152 or rosen.rebecca@epa.gov.

SUPPLEMENTARY INFORMATION: Throughout this document, whenever “we,” “us,” or “our” is used, we mean EPA.

Receipt of the motor vehicle emissions budgets for 8-hour ozone and PM2.5 in the 2007 South Coast SIP submitted on November 28, 2007 was announced on EPA's transportation conformity Web site on February 12, 2008. Receipt of the motor vehicle emissions budgets in the amended 2007 South Coast SIP was announced on March 27, 2008 based on a submittal from CARB dated March 26, 2008 that requested parallel adequacy processing of draft amendments to the 2007 South Coast SIP. The draft amendments to the 2007 South Coast SIP included two sets of budgets, and CARB labeled these sets as “baseline” and “SIP-based” budgets. CARB also requested that EPA consider both sets of budgets simultaneously but approve all of the “baseline” budgets only if the Agency could not approve or find adequate in their entirety the “SIP-based” budgets. We received comments in response to the adequacy review posting of the original 2007 South Coast SIP motor vehicle emissions budgets, and comments were also received in response to the adequacy review posting of the amended 2007 South Coast SIP motor vehicle emissions budgets. The final, adopted amendments to the 2007 South Coast SIP submitted by CARB on April 30, 2008 are the same as those submitted by CARB for parallel processing on March 26, 2008.

Today's notice is simply an announcement of a finding that we have already made. EPA Region IX sent a letter to the CARB on May 7, 2008 stating that the “baseline” motor vehicle emissions budgets in the amended 2007 South Coast SIP for the reasonable further progress (RFP) milestone years of 2008, 2011, 2014, 2017, and 2020 (for 8-hour ozone) and 2009 and 2012 (for PM2.5) are adequate. The adequate motor vehicle emissions budgets are provided in the following table:

Adequate 8-Hour Ozone “Baseline” Motor Vehicle Emissions
Budget year | 8-hour ozone—summer day, tons per day: ROG | 8-hour ozone—summer day, tons per day: NOX
2008 | 215 | 427
2011 | 176 | 354
2014 | 150 | 287
2017 | 131 | 32
2020 | 116 | 190

Adequate PM2.5 “Baseline” Motor Vehicle Emissions Budgets
Budget year | PM2.5—annual average, tons per day: ROG | PM2.5—annual average, tons per day: NOX | PM2.5—annual average, tons per day: PM2.5
2009 | 196 | 413 | 38
2012 | 163 | 337 | 38

Our letter dated May 7, 2008 also states that the “SIP-based” motor vehicle emissions budgets in the amended 2007 South Coast SIP are inadequate for transportation conformity purposes. The amended 2007 South Coast SIP included “SIP-based” budgets for 2008, 2011, 2014, 2017, 2020, and 2023 (for ozone) and for 2009, 2012, 2014, 2023, and 2030 (for PM2.5). The State has included additional on-road mobile source emissions reductions in the “SIP-based” budgets from the 2007 State Strategy for the California SIP. The “baseline” budgets include no such reductions but rather reflect emissions reductions from CARB rules that were adopted as of October 2006. EPA has determined that the “SIP-based” budgets are inadequate because all of the “SIP-based” budgets after 2009 include new emission reductions that do not result from specific or enforceable control measures. As a result, three of the transportation conformity rule's adequacy criteria are not met (40 CFR 93.118(e)(4)(iii), (iv), and (v)) for these “SIP-based” budgets. The inadequate motor vehicle emissions budgets are provided in the following table:

Inadequate “SIP-Based” 8-Hour Ozone Motor Vehicle Emissions
Budget year | 8-hour ozone—summer day, tons per day: ROG | 8-hour ozone—summer day, tons per day: NOX
2008 | 215 | 427
2011 | 162 | 320
2014 | 125 | 196
2017 | 111 | 167
2020 | 101 | 145
2023 | 93 | 128

Inadequate “SIP-Based” PM2.5 Motor Vehicle Emissions Budgets
Budget year | PM2.5—annual average, tons per day: ROG | PM2.5—annual average, tons per day: NOX | PM2.5—annual average, tons per day: PM2.5
2009 | 196 | 413 | 38
2012 | 139 | 276 | 37
2014 | 122 | 201 | 33
2023 | 89 | 131 | 37
2030 | 75 | 121 | 39

EPA notes that the 2008 8-hour ozone and 2009 PM2.5 motor vehicle emissions budgets in the state's “SIP-based” approach are the same as the adequate budgets in the state's “baseline” approach.

The finding and the response to comments are available at EPA's transportation conformity Web site: http://www.epa.gov/otaq/stateresources/transconf/adequacy.htm. Transportation conformity is required by Clean Air Act section 176(c). EPA's conformity rule requires that transportation plans, transportation improvement programs, and projects conform to state air quality implementation plans and establishes the criteria and procedures for determining whether or not they do conform. Conformity to a SIP means that transportation activities will not produce new air quality violations, worsen existing violations, or delay timely attainment of the national ambient air quality standards.

The criteria by which we determine whether a SIP's motor vehicle emission budgets are adequate for conformity purposes are outlined in 40 CFR 93.118(e)(4), which was promulgated on August 15, 1997 final rule (62 FR 43780, 43781-43783). We have further described our process for determining the adequacy of submitted SIP budgets in our July 1, 2004 final rule (69 FR 40004, 40038), and we used the information in these resources in making our adequacy findings. Please note that an adequacy review is separate from EPA's completeness review, and should not be used to prejudge EPA's ultimate approval action for the SIP. Even if we find a budget adequate, the SIP could later be disapproved.

Authority: 42 U.S.C. 7401 et seq.

Dated: May 6, 2008.
Laura Yoshii,
Acting Regional Administrator, Region IX.

[FR Doc. E8-10901 Filed 5-14-08; 8:45 am]

BILLING CODE 6560-50-P